DEPARTMENT OF STATE

[Public Notice No. 3607]

Secretary of State's Advisory Committee on Private International Law: Study Group on Enforcement of Foreign Judgments: Meeting Notice

There will be a public meeting of a study group of the Secretary of State's Advisory Committee on Private International Law on Wednesday, May 16, 2001, to consider the draft Hague Convention on Jurisdiction and the Enforcement of Foreign Judgments. The meeting will be held from 9:30 am to 5:00 pm in room 332 of the Federal Trade Commission, 600 Pennsylvania Ave., NW., Washington DC.

The purpose of the Study Group meeting is to assist the Department of State prepare the U.S. negotiating position for the first diplomatic session of the Hague Conference June 6-20, 2001 in the Hague, the Netherlands.

The last formal negotiating session on the project was in October 1999, which produced a preliminary draft convention text. Due to opposition by the United States and some other delegations to this text, the Hague Conference decided to postpone the final negotiating session from October 2000, and to hold it in two parts. The first part will be in June, and the second part has not yet been scheduled. The Conference decided that the June session would operate on a consensus basis, with the ordinary voting rules suspended. For the last several months, the Hague countries have been engaged in frequent informal meetings to attempt to narrow their differences and prepare the June diplomatic negotiating session.

A copy of the preliminary draft convention is available on the website of the Hague Conference, along with a detailed explanatory report by Peter Nygh and Fausto Pocar. These documents, together with other background documents on the negotiations may be found at www.hcch.net/e/workprog/jdgm.html>. Persons interested in the work of the study group or in attending the May 16 study group meeting may also request copies from Ms. Rosie Gonzales by fax at 202-776-8482, by telephone at 202-776-8420 (you may leave your request, name, telephone number, email, or mailing address on the answering machine), or by email at <gonzaler@ms.state.gov>. Email is the quickest and most efficient way to transmit the documents.

The study group meeting is open to the public up to the capacity of the meeting room. Persons wishing to attend should contact Ms. Gonzales by telephone, fax, or email, providing their name, affiliation, telephone and fax numbers, and email address. Any person who is unable to attend, but wishes to have his or her views considered, may send comments to Ms. Gonzales at the above fax number or email address, or may address them to Jeffrey D. Kovar, Assistant Legal Adviser for Private International Law (L/PIL), Suite 203, South Building, 2430 E Street, NW., Washington, DC 20037-2851.

Jeffrey D. Kovar,
Assistant Legal Adviser for Private International Law, Department of State.

[FR Doc. 01-10006 Filed 4-20-01; 8:45 am]

BILLING CODE 4710-08-P